DEPARTMENT OF HOUSING AND URBAN DEVELOPMENT

[Docket No. FR-5308-N-02]

Notice of Availability: Implementation of the Tax Credit Assistance Program (TCAP) Changes and Clarifications

AGENCY: Office of the Assistant Secretary for Communnity Planning and Development, HUD.

ACTION: Notice.

SUMMARY: On May 4, 2009, HUD posted on its Web site a notice establishing the submission requirements, eligible uses, fund commitment and expenditure deadlines, fund distribution, and other requirements for the Tax Credit Assistance Program (TCAP) authorized by section 2, Division A, Title XII of the American Recovery and Reinvestment Act of 2009 (Pub. L. 111-5, approved February 17, 2009). Through this document, HUD announces that it has posted on its Web site a revised notice that changes and clarifies a number of TCAP program requirements established in the document posted on May 4, 2009. The changes to the notice include the expansion of the definition of eligible TCAP projects to include projects that have received or will receive Gulf Opportunity Zone and Midwestern Disaster Area Housing Credits, as provided for under section 1204 of the 2009 Supplemental Appropriations Act (Pub. L. 111-32, approved June 24, 2009). The revised notice also provides for the use of additional reporting information that has now become available from both the Department and the Office of Management and Budget, and the addition of acquisition, on-site demolition costs, and hazardous material remediation costs to the eligible TCAP program costs. Please see the revised document for all changes made. The revised notice is available on the HUD Web site at: http://www.hud.gov/recovery/tax-credit.cfm.

FOR FURTHER INFORMATION CONTACT: Clifford Taffet, Director, Office of Affordable Housing, Office of Community Planning and Development, Department of Housing and Urban Development, 451 7th Street, SW., Room 7162, Washington, DC 20410-3000; telephone 1-800-998-9999. Hearing- or speech-impaired individuals may access the voice telephone number listed above by calling the toll-free Federal Information Relay Service during working hours at 800-877-8339.

Dated: July 30, 2009.
Nelson R. Bregón,
General Deputy Assistant Secretary for Community Planning and Development.

[FR Doc. E9-18800 Filed 8-5-09; 8:45 am]

BILLING CODE 4210-67-P